DEPARTMENT OF TRANSPORTATION

Federal Motor Carrier Safety Administration

[Docket No. FMCSA-2017-0006]

Agency Information Collection Activities; Reinstatement of an Information Collection: Practices of Household Goods Brokers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for reinstatement and approval and invites public comment. The FMCSA requests approval to reinstate, with changes, the ICR titled “Practices of Household Brokers” to no longer include one-time costs previously incurred by brokers, and to update other wage related costs that have changed since the last approval. This ICR requires reinstatement because the previous ICR expired on July 31, 2017, before the ICR renewal request could be submitted to OMB for approval. The reinstatement of this ICR is necessary, and FMCSA's responsibility to ensure consumer protection in the transportation of household goods (HHG).

DATES: Please send your comments by September 15, 2017. OMB must receive your comments by this date in order to act quickly on the ICR.

ADDRESSES: All comments should reference Federal Docket Management System (FDMS) Docket Number FMCSA-2017-0006. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Monique Riddick, Commercial Enforcement and Investigations Division, U. S. Department of Transportation, Federal Motor Carrier Safety Administration, West Building 6th Floor, 1200 New Jersey Avenue SE., Washington, DC 20590-0001. Telephone: 202-366-8045; email monique.riddick@dot.gov.

SUPPLEMENTARY INFORMATION: There were no comments received from the 60-day Federal Register notice (82 FR 14102) published on March 16, 2017.

Background: FMCSA amended then-existing regulations for brokers in response to Title IV, Subtitle B of the Safe, Accountable, Flexible, Efficient, Transportation Equity Act: A Legacy for Users (SAFETEA-LU) (Pub. L. 109-59) and a petition for rulemaking from the American Moving and Storage Association (AMSA). The final rule, titled “Brokers of Household Goods Transportation by Motor Vehicles,” (75 FR 72987, Nov. 29, 2010), amended 49 CFR part 371, by providing additional consumer protection responsibilities for brokers of HHG. Specifically, section 4212 of SAFETEA-LU directs the Secretary to require HHG brokers to provide individual shippers with the following information whenever a broker has contact with a shipper or potential shipper:

1. The broker's USDOT number.

2. The FMCSA booklet titled “Your Rights and Responsibilities When You Move.”

3. A list of all authorized motor carriers providing transportation of HHG used by the broker and a statement that the broker is not a motor carrier providing transportation of HHG.

The collection of information required in the referenced final rule assists shippers in their business dealings with interstate HHG brokers. The information collected is used by prospective shippers to make informed decisions about contracts, services ordered, executed, and settled. The HHG broker is often the primary contact for individual shippers and in the best position to educate shippers and prepare them for a successful move. The information collected makes that possible. It also combats deceptive business practices as the information helps enforcement personnel better protect consumers by verifying that shippers are receiving information to which they are entitled by regulation.

HHG brokers are required to provide individual shippers the “Your Rights and Responsibilities When You Move” booklet and the “Ready to Move” brochure. They have the option of providing paper copies or presenting the information through a link on their Internet Web site. The broker is required to document with signed receipts that the individual shipper was provided those materials. HHG brokers are also required to provide the list of HHG motor carriers for which it would arrange transportation to move a potential individual shipper's HHG, and that broker's identification information:

1. Assigned USDOT number; and

2. Address.

With this renewal, FMCSA makes a change to the collection to an adjustment in estimate. A program estimate change of 19,522 annual burden hours is the result of the removal of a 1,000 burden-hours that are no longer applicable. There is also an updated estimate in the number of household goods brokers which also contributes to the change of 19,522 in the calculated burden hours.

Title: Practices of Household Goods Brokers.

OMB Control Number: 2126-0048.

Type of Request: Reinstatement of an information collection.

Respondents: Brokers of Household Goods.

Estimated Number of Respondents: 543 brokers.

Estimated Time per Response: 0.25 hours per day × 240 workdays for transactions per household goods broker; 20 hours per year per broker for Web site/ad modifications; 10 hours per year per household goods broker for creating a list of carriers; 0.5 hours per month × 12 months per household goods broker for confirming required information; 0.083 hour per year × 36.8 explanations on average per household goods broker; 4 hours per year × 5 agreements per household goods broker for annual agreements through turnover; and 10 hours per year per household goods broker for disclosure and records.

Expiration Date: July 31, 2017.

Frequency of Response: On occasion.

Estimated Total Annual Burden: 70,000 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: August 10, 2017.
Kelly Regal,
Associate Administrator, Office of Research and Information Technology.

[FR Doc. 2017-17307 Filed 8-15-17; 8:45 am]

BILLING CODE 4910-EX-P